DEPARTMENT OF ENERGY

Federal Energy Regulatory Commission

Combined Notice of Filings #1

Take notice that the Commission received the following electric corporate filings:

Docket Numbers: EC18-149-000.

Applicants: Florida Power & Light Company.

Description: Application for Authorization under Section 203 of the Federal Power Act, et al. of Florida Power & Light Company.

Filed Date: 8/31/18.

Accession Number: 20180831-5245.

Comments Due: 5 p.m. ET 9/21/18.

Take notice that the Commission received the following electric rate filings:

Docket Numbers: ER10-2042-029; ER10-1942-021; ER17-696-009; ER10-1938-024; ER10-1934-023; ER10-1893-023; ER10-3051-028; ER10-2985-027; ER10-3049-028; ER11-4369-008; ER16-2218-008; ER10-1862-023.

Applicants: Calpine Energy Services, L.P., Calpine Construction Finance Company, L.P., Calpine Energy Solutions, LLC, Calpine Power America—CA, LLC, CES Marketing IX, LLC, CES Marketing X, LLC, Champion Energy, LLC, Champion Energy Marketing LLC, Champion Energy Services, LLC, North American Power and Gas, LLC, North American Power Business, LLC, Power Contract Financing, L.L.C.

Description: Notification of Change in Status of the Indicated Calpine MBR Sellers.

Filed Date: 8/31/18.

Accession Number: 20180831-5219.

Comments Due: 5 p.m. ET 9/21/18.

Docket Numbers: ER10-2527-006; ER18-1652-001; ER10-2528-002; ER10-2960-008; ER10-2400-009; ER10-2529-002; ER10-2530-003; ER10-2531-007; ER15-356-009; ER15-357-009; ER10-2532-012; ER10-1595-010; ER17-1636-004; ER10-1821-017; ER10-2533-006; ER10-2534-003; ER10-1598-010; ER10-2535-007; ER10-1616-010; ER11-4475-010; ER10-1618-010; ER18-1821-002.

Applicants: Allegheny Ridge Wind Farm, LLC, AL Mesquite Marketing, LLC, Aragonne Wind LLC, Astoria Generating Company, L.P., Blue Canyon Windpower LLC, Buena Vista Energy, LLC, Caprock Wind LLC, Cedar Creek Wind Energy, LLC, Chief Conemaugh Power, LLC, Chief Keystone Power, LLC, Crescent Ridge LLC, Crete Energy Venture, LLC, Great River Hydro, LLC, Goshen Phase II LLC, GSG, LLC, Kumeyaay Wind LLC, Lincoln Generating Facility, LLC, Mendota Hills, LLC, New Covert Generating Company, LLC, Rockland Wind Farm LLC, Rolling Hills Generating, L.L.C., Walleye Power, LLC.

Description: Notice of Non-Material Change in Status of Allegheny Ridge Wind Farm, LLC, et. al.

Filed Date: 8/31/18.

Accession Number: 20180831-5136.

Comments Due: 5 p.m. ET 9/21/18.

Docket Numbers: ER12-1316-004; ER11-2753-005.

Applicants: Silver State Solar Power North, LLC, Cedar Point Wind, LLC.

Description: Notification of Non-Material Change in Status of Silver State Solar Power North, LLC, et al.

Filed Date: 8/31/18.

Accession Number: 20180831-5217.

Comments Due: 5 p.m. ET 9/21/18.

Docket Numbers: ER17-1553-000.

Applicants: Duke Energy Progress, LLC.

Description: Report Filing: DEP Fayetteville RS No. 184 Refund Report to be effective N/A.

Filed Date: 8/31/18.

Accession Number: 20180831-5170.

Comments Due: 5 p.m. ET 9/21/18.

Docket Numbers: ER18-563-004.

Applicants: Red Pine Wind Project, LLC.

Description: Compliance filing: Red Pine Rate Schedule Compliance Filing Effective March 1 2018 to be effective3/1/2018.

Filed Date: 8/31/18.

Accession Number: 20180831-5193.

Comments Due: 5 p.m. ET 9/21/18.

Docket Numbers: ER18-1169-003.

Applicants: California Independent System Operator Corporation.

Description: Compliance filing: 2018-08-31 Limited Tariff Waiver Petition- Postpone Effect. Date to April 1 2019 to be effective N/A.

Filed Date: 8/31/18.

Accession Number: 20180831-5174.

Comments Due: 5 p.m. ET 9/21/18.

Docket Numbers: ER18-2312-000.

Applicants: Enel Green Power Diamond Vista Wind Project, LLC.

Description: Report Filing: MBR Tariff to be effective N/A.

Filed Date: 8/31/18.

Accession Number: 20180831-5092.

Comments Due: 5 p.m. ET 9/21/18.

Docket Numbers: ER18-2370-000.

Applicants: Lackawanna Energy Center LLC.

Description: Initial rate filing: Filing of Reactive Power Rate Schedule to be effective 10/1/2018.

Filed Date: 8/31/18.

Accession Number: 20180831-5191.

Comments Due: 5 p.m. ET 9/21/18.

Docket Numbers: ER18-2371-000.

Applicants: New England Power Pool Participants Committee.

Description: § 205(d) Rate Filing: September 2018 Membership Filing to be effective 9/1/2018.

Filed Date: 8/31/18.

Accession Number: 20180831-5194.

Comments Due: 5 p.m. ET 9/21/18.

Docket Numbers: ER18-2372-000.

Applicants: Florida Power & Light Company.

Description: § 205(d) Rate Filing: FPL and Seminole NITSA 162 Revisions to be effective 9/1/2018.

Filed Date: 8/31/18.

Accession Number: 20180831-5195.

Comments Due: 5 p.m. ET 9/21/18.

Docket Numbers: ER18-2373-000.

Applicants: Duke Energy Progress, LLC.

Description: § 205(d) Rate Filing: DEP-DOM IA RS. No. 196 Concurrence Filing (Battleboro) to be effective10/26/2018.

Filed Date: 9/4/18.

Accession Number: 20180904-5074.

Comments Due: 5 p.m. ET 9/25/18.

Docket Numbers: ER18-2374-000.

Applicants: Southwestern Electric Power Company.

Description: § 205(d) Rate Filing: Hope PSA to be effective 8/1/2018.

Filed Date: 9/4/18.

Accession Number: 20180904-5080.

Comments Due: 5 p.m. ET 9/25/18.

Docket Numbers: ER18-2375-000.

Applicants: Tampa Electric Company

Description: § 205(d) Rate Filing: Underfrequency Load Shedding Update to be effective 9/5/2018.

Filed Date: 9/4/18.

Accession Number: 20180904-5135.

Comments Due: 5 p.m. ET 9/25/18.

Docket Numbers: ER18-2376-000.

Applicants: Southwest Power Pool, Inc.

Description: § 205(d) Rate Filing: Revisions to Bylaws to Incorporate a De Minimis Investment Methodology to be effective 11/3/2018.

Filed Date: 9/4/18.

Accession Number: 20180904-5146.

Comments Due: 5 p.m. ET 9/25/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2018.
Kimberly D. Bose,
Secretary.

[FR Doc. 2018-19559 Filed 9-7-18; 8:45 am]

BILLING CODE 6717-01-P